DEPARTMENT OF LABOR

Employment and Training Administration

[TA-W-55,991]

Fruit of the Loom, Jamestown, KY; Notice of Termination of Investigation

Pursuant to Section 221 of the Trade Act of 1974, as amended, an investigation was initiated on November 15, 2004 in response to a petition filed by a company official on behalf of workers at Fruit of the Loom, Jamestown, Kentucky.

The petitioner has requested that the petition be withdrawn. Consequently, the investigation has been terminated.

Signed at Washington, DC this 24th day of November, 2004.
Richard Church,
Certifying Officer, Division of Trade Adjustment Assistance.

[FR Doc. E4-3585 Filed 12-8-04; 8:45 am]

BILLING CODE 4510-30-P